DEPARTMENT OF HOMELAND SECURITY

Federal Emergency Management Agency

[FEMA-1771-DR]

Illinois; Amendment No. 7 to Notice of a Major Disaster Declaration

AGENCY: Federal Emergency Management Agency, DHS.

ACTION: Notice.

SUMMARY: This notice amends the notice of a major disaster declaration for the State of Illinois (FEMA-1771-DR), dated June 24, 2008, and related determinations.

DATES: Effective Date: August 8, 2008.

FOR FURTHER INFORMATION CONTACT: Peggy Miller, Disaster Assistance Directorate, Federal Emergency Management Agency, 500 C Street, SW., Washington, DC 20472, (202) 646-3886.

SUPPLEMENTARY INFORMATION: Notice is hereby given that pursuant to the President's June 30, 2008, amended declaration authorizing Federal funds for emergency protective measures, including direct Federal assistance, at 90 percent Federal funding of total eligible costs under the Public Assistance program, the National Oceanic and Atmospheric Administration's National Weather Service River Forecast Center has established that the rivers in the State of Illinois, which have experienced historical flooding, fell below flood stage on August 6, 2008.

(The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households In Presidentially Declared Disaster Areas; 97.049, Presidentially Declared Disaster Assistance—Disaster Housing Operations for Individuals and Households; 97.050 Presidentially Declared Disaster Assistance to Individuals and Households—Other Needs, 97.036, Disaster Grants—Public Assistance (Presidentially Declared Disasters); 97.039, Hazard Mitigation Grant.)

R. David Paulison,
Administrator, Federal Emergency Management Agency.

[FR Doc. E8-19016 Filed 8-15-08; 8:45 am]

BILLING CODE 9110-10-P